DEPARTMENT OF VETERANS AFFAIRS

[OMB Control No. 2900-0881]

Agency Information Collection Activity Under OMB Review: Lay/Witness Statement

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0881.

FOR FURTHER INFORMATION CONTACT: Maribel Aponte, Office of Enterprise and Integration, Data Governance Analytics (008), 1717 H Street NW, Washington, DC 20006, (202) 266-4688 or email maribel.aponte@va.gov. Please refer to “OMB Control No. 2900-0881” in any correspondence.

SUPPLEMENTARY INFORMATION: Authority: 38 U.S.C. 501, 38 U.S.C. 5103, and 38 U.S.C. 5101(a).

Title: Lay/Witness Statement (VA Form 21-10210).

OMB Control Number: 2900-0881.

Type of Review: Extension of a currently approved collection.

Abstract: VA Form 21-10210 is used by the claimant to gather lay or witness statements that support an existing claim for benefits or services. Without this information, VA may not be able to efficiently and successfully process claims that may require additional statements associated with a claim for benefits or services. This request is an extension only with no substantive changes made to the form.

An agency may not conduct or sponsor, and a person is not required to respond to a collection of information unless it displays a currently valid OMB control number. The Federal Register Notice with a 60-day comment period soliciting comments on this collection of information was published at 85 FR 177 on September 11, 2020, pages 56290 and 56291.

Affected Public: Individuals or Households.

Estimated Annual Burden: 16,667 hours.

Estimated Average Burden per Respondent: 10 minutes.

Frequency of Response: One time.

Estimated Number of Respondents: 100,000.

By direction of the Secretary.
Maribel Aponte,
VA PRA Clearance Officer, Office of Enterprise and Integration, Data Governance Analytics, Department of Veterans Affairs.

[FR Doc. 2021-03881 Filed 2-24-21; 8:45 am]

BILLING CODE 8320-01-P